DEPARTMENT OF THE INTERIOR

National Park Service

[NPS-WASO-NAGPRA-NPS0039894; PPWOCRADN0-PCU00RP14.R50000]

Notice of Inventory Completion: U.S. Army Corps of Engineers, Omaha District, Omaha, NE

AGENCY: National Park Service, Interior.

ACTION: Notice.

SUMMARY: In accordance with the Native American Graves Protection and Repatriation Act (NAGPRA), the U.S. Army Corps of Engineers, Omaha District has completed an inventory of human remains and has determined that there is a cultural affiliation between the human remains and Indian Tribes or Native Hawaiian organizations in this notice.

DATES: Repatriation of the human remains in this notice may occur on or after May 12, 2025.

ADDRESSES: Livia Taylor, U.S. Army Corps of Engineers, Omaha District, ATTN: CENWO-PMA-D, 1616 Capitol Avenue, Omaha, NE 68102, telephone (402) 995-2434, email Livia.A.Taylor@usace.army.mil.

SUPPLEMENTARY INFORMATION: This notice is published as part of the National Park Service's administrative responsibilities under NAGPRA. The determinations in this notice are the sole responsibility of the U.S. Army Corps of Engineers, Omaha District, and additional information on the determinations in this notice, including the results of consultation, can be found in its inventory or related records. The National Park Service is not responsible for the determinations in this notice.

Abstract of Information Available

Human remains representing, at least, one individual were removed from the shoreline of Prairie Dog Bay within the North Point Recreation Area in Charles Mix County, SD. No associated funerary objects are present. In April 1983, a recreator initially collected the remains which were later turned over to the Omaha District. The Ancestor was first transported to the University of North Dakota and then in 2012 was transferred by the Omaha District to the South Dakota State Historical Society Archaeological Research Center in Rapid City, SD where the Ancestor remains today. No known individuals were identified.

No information is available that would indicate that any of the human remains in this notice have been treated with potentially hazardous substances.

Cultural Affiliation

Based on the information available and the results of consultation, cultural affiliation is reasonably identified by the geographical location and acquisition history of the human remains described in this notice.

Determinations

The U.S. Army Corps of Engineers, Omaha District has determined that:

• The human remains described in this notice represent the physical remains of one individual of Native American ancestry.

• There is a connection between the human remains described in this notice and the Yankton Sioux Tribe of South Dakota.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after May 12, 2025. If competing requests for repatriation are received, the U.S. Army Corps of Engineers, Omaha District must determine the most appropriate requestor prior to repatriation. Requests for joint repatriation of the human remains are considered a single request and not competing requests. The U.S. Army Corps of Engineers, Omaha District is responsible for sending a copy of this notice to the Indian Tribes and Native Hawaiian organizations identified in this notice.

Authority: Native American Graves Protection and Repatriation Act, 25 U.S.C. 3003, and the implementing regulations, 43 CFR 10.10.

Dated: April 1, 2025.
Melanie O'Brien,
Manager, National NAGPRA Program.

[FR Doc. 2025-06210 Filed 4-10-25; 8:45 am]

BILLING CODE 4312-52-P